DEPARTMENT OF ENERGY

Federal Energy Regulatory Commission

[Docket No. AD12-2-000]

Notice of Availability of Draft Revisions; Upland Erosion Control, Revegetation, and Maintenance Plan; Wetland and Waterbody Construction and Mitigation Procedures; Request for Comments

The staff of the Office of Energy Projects is revising its Upland Erosion Control, Revegetation, and Maintenance Plan (Plan) and Wetland and Waterbody Construction and Mitigation Procedures (Procedures), last updated January 17, 2003. In accordance with Order 603,¹ the staff is asking for comments on the draft revisions from the natural gas industry, federal, state and local agencies, environmental consultants, inspectors, construction contractors, and other interested parties with special expertise with respect to environmental issues commonly associated with pipeline projects. Please note that this comment period will close on October 9, 2012.

¹ Revision of Existing Regulations Under Part 157 and Related Sections of the Commission's Regulations Under the Natural Gas Act, Commission Order No. 603, Docket No. RM98-9-000, issued April 29, 1999. Noticed in the Federal Register on May 14, 1999. 64 FR 26572.

The Plan and Procedures are referred to at 18 Code of Federal Regulations (CFR) 380.12(i)(5) and 380.12(d)(2), respectively, as well as 18 CFR 157.206(b)(3)(iv). The Plan and Procedures identify the staff's baseline mitigation measures for minimizing erosion and enhancing revegetation in uplands and the extent and duration of project-related disturbance on wetlands and waterbodies. Attached to this notice are full texts of the draft revisions, identifying all proposed changes from the current versions of the Plan and Procedures in tracked changes format ². The draft revisions can also be viewed on the Federal Energy Regulatory Commission (FERC or Commission) Web site at http://www.ferc.gov/industries/gas/enviro/guidelines.asp.

² The attachments referenced in this notice will not appear in the Federal Register.

The staff announced its intention to revise the Plan and Procedures by public notice issued October 31, 2011, in the above referenced docket. The proposed revisions address comments filed in response to the public notice, frequent inquiries for clarification or guidance, and common variance requests. Other modifications provide necessary updates to reflect current laws and industry best management practices.

We will consider all timely comments on the draft revisions before issuing the final versions. For your convenience, there are three methods you can use to submit your comments to the Commission. In all instances, please reference the docket number (AD12-2-000) with your submission. The Commission encourages electronic filing of comments and has expert eFiling staff available to assist you at (202) 502-8258 or efiling@ferc.gov. Please include your name and email address so we can include you in future notices regarding our planned revisions.

(1) You may file your comments electronically by using the eComment feature, which is located on the Commission's Web site at www.ferc.gov under the link to Documents and Filings. An eComment is an easy method for interested persons to submit brief, text-only comments;

(2) You may file your comments electronically by using the eFiling feature, which is located on the Commission's Web site at www.ferc.gov under the link to Documents and Filings. With eFiling you can provide comments in a variety of formats by attaching them as a file with your submission. New eFiling users must first create an account by clicking on “eRegister.” You will be asked to select the type of filing you are making. A comment in response to this notice is considered a “Comment on a Filing”; or

(3) You may file a paper copy of your comments at the following address:

Kimberly D. Bose, Secretary, Federal Energy Regulatory Commission, 888 First Street NE., Room 1A, Washington, DC 20426.

All of the information related to the proposed revisions to the Plan and Procedures and submitted comments can be found on the FERC Web site (www.ferc.gov) using the eLibrary link. Click on the eLibrary link, click on “General Search” and enter the docket number, excluding the last three digits in the Docket Number field (i.e., AD12-2). Be sure you have selected an appropriate date range. For assistance, please contact FERC Online Support at FercOnlineSupport@ferc.gov or toll free at (866) 208-3676, or for TTY, contact (202) 502-8659. The eLibrary link also provides access to the texts of formal documents issued by the Commission, such as orders, notices, and rulemakings.

In addition, the Commission offers a free service called eSubscription which allows you to keep track of all formal issuances and submittals in specific dockets. This can reduce the amount of time you spend researching proceedings by automatically providing you with notification of these filings, document summaries, and direct links to the documents. Go to www.ferc.gov/esubscribenow.htm.

Information Collection Statement

The Office of Management and Budget (OMB) regulations require OMB approval of certain reporting, record keeping, and public disclosure requirements (collections of information) imposed by an agency ³. To ensure compliance with OMB's regulations implementing the Paperwork Reduction Act of 1995 ⁴, the Office of Energy Project's staff is providing notice of potential modifications to information collections from jurisdictional natural gas companies, and is requesting comments on information collection and reporting burden. Burden includes the total time, effort, or financial resources expended to generate, maintain, retain, disclose, or provide the information to the Commission and any applicable third parties.

³ 5 CFR Part 1320.

⁴ 44 U.S.C. 3507(d).

Comments in consideration of the collection of information should be submitted following the guidelines described on page 2 of this notice, and should reference OMB Control No. 1902-0060 in addition to Docket No. AD12-2-000. Comments regarding information collection requirements should focus on whether the information will have practical utility; the accuracy of burden estimates (provided below); ways to enhance the quality, utility, and clarity of the information collected; and any suggested methods for minimizing the respondent's burden, including the use of automated information techniques. Following the comment period, the Commission staff will submit the final revised Plan and Procedure documents to OMB for review of the information collection requirements.

The information collection requirements described in the current versions of the Plan and Procedures are approved by OMB via FERC-537, “Gas Pipeline Certificates: Construction, Acquisition, and Abandonment” (OMB Control No. 1902-0060), which is used by the Commission to implement the statutory provisions of the Natural Gas Policy Act of 1978 (NGPA), 15 U.S.C. 3301-3432, and the Natural Gas Act (NGA) (15 U.S.C. 717-717w). The information collected per FERC-537 is necessary to certificate interstate pipelines engaged in the transportation and sale of natural gas, and the construction, acquisition, and operation of facilities to be used in those activities, to authorize the abandonment of facilities and services, and to authorize certain NGPA transactions.

The draft Plan and Procedure revisions identified in this notice are primarily modifications and clarifications to the content of information collections required by the current versions. For example, revisions to Plan sections III.H., III.I., and VII.B.2. clarify staff's expectations for the content of blasting plans, winter construction plans, and quarterly activity reports, respectively. Draft revisions to Plan section III.F.3. regarding agency consultations on wildlife and livestock, standardize a best management practice and staff expectation. A draft revision to Procedure section VI.D.3. modifies the wetland revegetation success criteria used for monitoring and reporting. Such revisions do not constitute entirely new information collections; however, the proposed revisions could increase reporting burden by adjusting the existing ways to comply with any previously applicable instructions and requirements; training personnel to respond to a modified collection of information; and completing and reviewing such collections.

Draft revisions would reduce reporting burden on jurisdictional natural gas companies by providing guidance that is frequently requested during report preparations; directions to provide information that frequently results in data requests; and improved flexibility to reduce variance requests for construction practices the staff has determined are acceptable. For example, frequently requested guidance on beneficial reuse of construction materials is provided in revised Plan sections II.B.17. and III.E. Identification of baseline expectations for residential construction practices is provided in revised Plan section III.G. Variance requests would be reduced via revisions to Procedures section V.B.3.g. that address construction through waterbodies that are dry or frozen, and VI.B.2.f. that address burning of woody debris in wetlands. Additionally, proposed revisions to Procedure sections V.B.2.b. and VI.B.1.b. would reduce reporting burden on jurisdictional entities, permitting detailed justifications for reduced setbacks at waterbodies and wetlands.

Revised terminology is proposed in order to be inclusive of prior notice, advanced notice, and automatic authorization projects to address the wider net of project types subject to Plan and Procedure requirements. The revisions clarify applicability for projects constructed under the Commission's blanket certificate program (18 CFR Part157, Subpart F) and construction of facilities for transportation services under the NGPA section 311 (18 CFR Part 284, Subpart A). These clarifications would improve the efficiency of the environmental review process, and reduce labor hours required of jurisdictional natural gas companies to prepare complete reports.

Entirely new information collection requirements are limited. A new record retention requirement is proposed regarding drainage system repairs or improvements (see draft revised Plan section VII.B.1.e.). In addition, a new annual report is proposed for affected wetlands that do not successfully revegetate within three years after construction (see draft revised Procedure section VI.D.4.). We expect this revision to result in a minor increase in reporting burden due to the low incidence of wetland revegetation failure; we estimate less than 10 percent of affected wetlands on an annual basis. In addition, our experience indicates that the cause of failure in many cases is anthropogenic activities that would negate the need for further monitoring and remediation by the project sponsors.

Additional filings for blanket certificate prior notice projects would also be required (see revised “Applicability” discussions in sections I. of the Plan and Procedures). Such filings include winter construction plans noted in revised Plan section III.I., and the pre-construction filings noted in section II. of the Procedures (i.e., hydrostatic testing information, waterbody crossing schedules, spill prevention and response procedures, plans for major waterbody crossings, horizontal directional drill crossings, and justifications for any alternative measures). This would not reflect an entirely new reporting burden however, as this information is typically requested by staff during review of these projects to ensure compliance with blanket certificate standard conditions in 18 CFR 157.206.

Overall, in consideration of the proposed revisions to reporting requirements and the increased efficiency that would realized during the environmental review process, we expect the net effect of the proposed Plan and Procedure revisions to constitute a minor increase in information collection burden.

Burden Estimate

The estimate below is based on workload completion data prepared by FERC's Division of Gas—Environment and Engineering for fiscal year 2011. Respondents include companies that filed project applications under NGA Section 7, blanket certificate prior notice filings and annual reports, and NGPA 311 advanced notification filings and annual reports.

⁵ NGA 7, Blanket Certificate, and NGPA 311 filings. Filings were excluded if they qualified as categorical exclusions under the National Environmental Policy Act or were otherwise categorized as “environment not involved.” These types of projects would not be subject to the environmental requirements of the Plan and Procedures and thus would not be affected by changes to information collections.

Proposed modification to FERC-537, OMB Control No. 1902-0060 | Average number of respondents annually | Average number of filings per year ⁵ | Average change in burden hours per filing (rounded) | Total annual change in burden hours for all filings types
|  | (a) | (b) | (a × b)
Upland Plan | 81 Natural Gas Companies | 113 | 6.1 | 681
Wetland and Waterbody Procedures | 81 Natural Gas Companies | 113 | −3.8 | −428
Grand Total |  |  |  | 253

Information Collection Costs: The Commission staff seeks comments on the costs to comply with the proposed revisions to the Plan and Procedures. The total estimated annual cost burden to prepare new or modified information collections based on the proposed Plan and Procedure revisions is $17,459.43 (253 hours/2,080 hours ⁶ per year, times $143,540 ⁷).

⁶ Estimated number of hours an employee works each year.

⁷ Estimated average annual cost (salary plus benefits) per employee.

We expect the estimated burden would reduce in subsequent years, as companies adjust to the modified information collections and have trained their personnel to collect information per the revised Plan and Procedures.

Interested persons may obtain additional information on the OMB process and information collection statement by contacting Ellen Brown, Office of the Executive Director, via email at DataClearance@ferc.gov; by phone (202) 502-8663, or facsimile (202) 273-0973.

Dated: July 31, 2012.
Kimberly D. Bose,
Secretary.

[FR Doc. 2012-19279 Filed 8-6-12; 8:45 am]

BILLING CODE 6717-01-P